DEPARTMENT OF COMMERCE

Foreign-Trade Zones Board

[S-181-2022]

Approval of Subzone Status; Voestalpine High Performance Metals LLC; South Boston, Virginia

On September 29, 2022, the Executive Secretary of the Foreign-Trade Zones (FTZ) Board docketed an application submitted by the Capital Region Airport Commission, grantee of FTZ 207, requesting subzone status subject to the existing activation limit of FTZ 207, on behalf of voestalpine High Performance Metals LLC, in South Boston, Virginia.

The application was processed in accordance with the FTZ Act and Regulations, including notice in the Federal Register inviting public comment (87 FR 60371, October 5, 2022). The FTZ staff examiner reviewed the application and determined that it meets the criteria for approval. Pursuant to the authority delegated to the FTZ Board Executive Secretary (15 CFR 400.36(f)), the application to establish Subzone 207E was approved on December 28, 2022, subject to the FTZ Act and the Board's regulations, including section 400.13, and further subject to FTZ 207's 2,000-acre activation limit.

Dated: December 28, 2022.
Andrew McGilvray,
Executive Secretary.

[FR Doc. 2022-28533 Filed 12-30-22; 8:45 am]

BILLING CODE 3510-DS-P